DEPARTMENT OF THE INTERIOR

National Park Service

[NPS-WASO-NRNHL-0312-9795; 2200-3200-665]

National Register of Historic Places; Notification of Pending Nominations and Related Actions

Nominations for the following properties being considered for listing or related actions in the National Register were received by the National Park Service before March 3, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 11, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Pima County

Arivaca Schoolhouse, 17180 W. 4th St., Arivaca, 12000199

COLORADO

Jefferson County

Golden Cemetery, 755 Ulysses St., Golden, 12000200

Pueblo County

First Methodist Episcopal Church, 310 W. 11th St., Pueblo, 12000201

KANSAS

Butler County

Viets Block, 427, 429, & 431 State St., Augusta, 12000202

Dickinson County

ATSF Steam Locomotive No. 3415, 411 S. Elm St., Abilene, 12000203

Geary County

Jackson—McConnell House, 228 W. 5th St., Junction City, 12000204

MASSACHUSETTS

Berkshire County

Old Churchyard Cemetery, Adjacent to 918 Jenks Rd., Cheshire, 12000206

MISSOURI

Jackson County

Twenty—Twenty Grand Building, (Railroad Related Historic Commercial and Industrial Resources in Kansas City, Missouri MPS) 2008-2020 Grand Blvd., Kansas City, 12000205

St. Louis Independent City

Shaw's Garden Historic District, Roughly bounded by DeTonty, Tower Grove, Shaw, Alfred, Magnolia, Kingshighway, & Vandeventer Aves., St. Louis (Independent City), 12000207

NEW JERSEY

Hunterdon County

Kalmia Club, The, (Clubhouses of New Jersey Women's Clubs MPS) 39 York St., Lambertville, 12000208

Somerset County

North Branch Historic District, Easton Tpk., Vanderveer Ave., Burnt Mills, & Station Rds. (Branchburg Township), North Branch, 12000209

NEW YORK

Montgomery County

Reaney, Margaret, Memorial Library, 19 Kingsbury Ave., St. Johnsville, 12000210

Washington County

Hebron District School No. 16, NY 22, East Hebron, 12000211

Wyoming County

Perry Downtown Historic District, N. & S. Main, Covington, & Lake Sts., Borden Ave., Perry, 12000212

NORTH CAROLINA

Bertie County

Lee, William H., House, 246 Farm Rd., Lewiston, 12000213

Mitchell County

Penland Post Office and General Store, 1162 Penland Rd., Penland, 12000214

Northampton County

Gaston School, 200 School St., Gaston, 12000215

Robeson County

Robeson County Agricultural Building, 108 W. 8th St., Lumberton, 12000216

Surry County

Atkinson, Samuel Josiah, House, 586 Atkinson Rd., Siloam, 12000217

Wake County

Page, Williamson, House, 116 S. Page St., Morrisville, 12000218

PENNSYLVANIA

Allegheny County

Cavalry Episcopal Church, 315 Shady Ave., Pittsburgh, 12000219

Chester County

Phoenixville Historic District (Boundary Decrease), High, Dayton, Railroad, Vanderslice, Bridge, & N. Main Sts., Wheatland & French Cr., Phoenixville, 12000220

Lackawanna County

Scranton Lace Company, 1315 Meylert St., Scranton, 12000221

Luzerne County

Hazelton High School, (Educational Resources of Pennsylvania MPS) 700 N. Wyoming St., Hazelton, 12000222

Philadelphia County

Wayne Junction Historic District, Roughly bounded by W. Berkley St., Roberts, Germantown, & Wayne Aves., Philadelphia, 12000223

Tioga County

Parkhurst Memorial Presbyterian Church, 302 W. Main St., Elkland, 12000224

WEST VIRGINIA

Upshur County

Buckhannon Central Residential Historical District, Roughly bounded by College Ave., S. Kanawha, Madison, & E. Main Sts., Buckhannon, 12000225

A request to move has been made for the following resources:

UTAH

Weber County

Goodyear, Miles, Cabin, Tabernacle Sq., Ogden, 71000866

Weber Stake Relief Society Building, 2148 Grant Ave., Ogden, 88003438

[FR Doc. 2012-7262 Filed 3-26-12; 8:45 am]

BILLING CODE 4312-51-P